DEPARTMENT OF THE INTERIOR

Fish and Wildlife Service

[FWS-R4-R-2015-N221; FXRS1263040000-156-FF04R08000]

Information Collection Request Sent to the Office of Management and Budget (OMB) for Approval; National Wildlife Refuge Visitor Check-In Permit and Use Report

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on December 31, 2015. We may not conduct or sponsor and a person is not required to respond to a collection of information unless it displays a currently valid OMB control number. However, under OMB regulations, we may continue to conduct or sponsor this information collection while it is pending at OMB.

DATES: You must submit comments on or before December 23, 2015.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS BPHC, 5275 Leesburg Pike, Falls Church, VA 22041-3803 (mail), or hope_grey@fws.gov (email). Please include “1018-0153” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-0153.

Title: National Wildlife Refuge Visitor Check-In Permit and Use Report.

Service Form Number: 3-2405.

Type of Request: Extension of a currently approved collection.

Description of Respondents: Individuals who visit national wildlife refuges.

Respondent's Obligation: Required to obtain or retain a benefit.

Frequency of Collection: On occasion.

Estimated Annual Number of Respondents: 650,000.

Estimated Annual Number of Responses: 650,000.

Estimated Completion Time per Response: 5 minutes.

Estimated Total Annual Burden Hours: 54,167.

Abstract: The National Wildlife Refuge System Administration Act of 1966 (16 U.S.C. 668dd-668ee), as amended by the National Wildlife Refuge System Improvement Act of 1997, and the Refuge Recreation Act of 1962 (16 U.S.C. 460k-460k-4) govern the administration and uses of national wildlife refuges and wetland management districts. We are authorized to allow public uses on lands of the National Wildlife Refuge System, including hunting, fishing, wildlife observation, wildlife photography, and environmental education and interpretation, and other visitor uses, when we find that the activities are compatible and appropriate with the purpose or purposes for which the refuges were established.

We collect information on hunters and anglers and other visitors to help us protect refuge resources and administer and evaluate the success of visitor programs. Because of high demand and limited resources, we often provide visitor opportunities by permit, based on dates, locations, or type of public use. We may not allow all opportunities on all refuges, and harvest information differs for each refuge. We use FWS Form 3-2405 (Self-Clearing Check-In Permit) to collect this information. Not all refuges will use the form, and some refuges may collect the information in a nonform format. We collect:

• Information on the visitor (name, address, and contact information). We use this information to identify the visitor or driver/passengers of a vehicle while on the refuge. Having this information readily available is critical in a search and rescue situation. We do not maintain or record this information.

• Information on whether or not hunters/anglers were successful (number and type of harvest/caught).

• Purpose of visit (hunting, fishing, wildlife observation, wildlife photography, auto touring, birding, hiking, boating/canoeing, visitor center, special event, environmental education class, volunteering, other recreation).

• Date of visit.

The above information is a vital tool in meeting refuge objectives and maintaining quality visitor experiences. It will help us:

• Administer and monitor visitor programs and facilities on refuges.

• Distribute visitor permits to ensure safety of visitors.

• Ensure a quality visitor experience.

• Minimize resource disturbance, manage healthy game populations, and ensure the protection of fish and wildlife species.

• Assist in Statewide wildlife management and enforcement and develop reliable estimates of the number of all game fish and wildlife.

• Determine facility and program needs and budgets.

Comments Received and Our Responses

On June 23, 2015, we published in the Federal Register (80 FR 35969) a notice of our intent to request that OMB renew approval for this information collection. In that notice, we solicited comments for 60 days, ending on August 24, 2015. We received one comment. The commenter objected to the requirement to sign in to enter a refuge and objected to the use of taxpayer dollars to collect this information. We use this information to identify the visitor or driver/passengers of a vehicle while on the refuge. Having this information readily available is critical in a search and rescue situation. We have not made any changes to our requirements, based on this comment.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB or us in your comment to withhold your personal identifying information from public review, we cannot guarantee that it will be done.

Dated: November 18, 2015.
Tina A. Campbell,
Chief, Division of Policy, Performance, and Management Programs, U.S. Fish and Wildlife Service.

[FR Doc. 2015-29769 Filed 11-20-15; 8:45 am]

BILLING CODE 4333-15-P